DEPARTMENT OF HEALTH AND HUMAN SERVICES

Health Resources and Services Administration

Meeting of the National Advisory Council on Nurse Education and Practice

AGENCY: Health Resources and Services Administration (HRSA), Department of Health and Human Services.

ACTION: Notice; correction.

SUMMARY: The National Advisory Council on Nurse Education and Practice (NACNEP) meeting scheduled for Tuesday, May 12, 2020, and Wednesday, May 13, 2020, has changed its format, date, and time. The meeting will now be a one-day webinar and conference call only on Tuesday, May 12, 2020, from 9:00 a.m.-4:30 p.m. Eastern Standard Time. The decision to adjust the NACNEP meeting has been made after carefully examining the Centers for Disease Control and Prevention's recommendations to restrict all non-essential travel, and the widespread health risks posed by COVID-19 to the American public. The webinar link, conference number, meeting materials, and updates for the May 12, 2020, meeting will be available on the NACNEP website: https://www.hrsa.gov/advisory-committees/nursing/meetings.html.

FOR FURTHER INFORMATION CONTACT: Camillus Ezeike, Ph.D., LL.M. J.D., RN, PMP, Designated Federal Official, NACNEP, Bureau of Health Workforce, HRSA, 5600 Fishers Lane, Rockville, Maryland 20857; 301-443-2886; or BHWNACNEP@hrsa.gov.

Correction [Meeting will be a one-day webinar and conference call only, rather than two-days and in-person as previously announced].

Maria G. Button,
Director, Executive Secretariat.

[FR Doc. 2020-08142 Filed 4-16-20; 8:45 am]

BILLING CODE 4165-15-P